SOCIAL SECURITY ADMINISTRATION

Privacy Act of 1974, as Amended; New System of Records and New Routine Use Disclosures

AGENCY: Social Security Administration (SSA).

ACTION: Proposed new system of records and proposed routine uses.

SUMMARY: In accordance with the Privacy Act (5 U.S.C. 552a(e)(4)) and (e)(11)), we are issuing public notice of our intent to establish a new system of records under the Privacy Act entitled SSA Administrative Sanctions Database. The proposed new system of records will maintain information SSA will use to investigate and take appropriate action in cases of individuals suspected of knowingly making false or misleading statements when pursuing claims under title II or title XVI of the Social Security Act. We also are proposing to establish 'routine use' disclosures applicable to the proposed new system of records. We invite public comments on this publication.

DATES: We filed a report of the proposed new system of records with the President of the Senate, the Speaker of the House of Representatives, and the Director, Office of Information and Regulatory Affairs, Office of Management and Budget (OMB) on August 28, 2000. We also requested OMB to waive the 40-day advance notice requirements for the system. If OMB does not grant the waiver we will not implement the proposal before October 7, 2000.

ADDRESSES: Interested individuals may comment on this publication by writing to the SSA Privacy Officer, Social Security Administration, 3-F-1 Operations Building, 6401 Security Boulevard, Baltimore, Maryland 21235. All comments received will be available for public inspection at the above address.

FOR FURTHER INFORMATION CONTACT: Mrs. Patricia G. Smith, Social Insurance Policy Specialist, Social Security Administration, Room 3-C-2 Operations Building, 6401 Security Boulevard, Baltimore, Maryland 21235, telephone (410) 965-1552.

SUPPLEMENTARY INFORMATION:

I. Background and Purpose of the Proposed New System of Records

A. General Background

On December 14, 1999, the President signed into law the Foster Care Independence Act of 1999, Public Law 106-169. Section 207 of this law amended title XI of the Social Security Act (Act) by adding section 1129A, that provides for the imposition by SSA of a penalty on an individual who makes or causes to be made, a statement or representation of a material fact, that the person knows or should know is false or misleading, or omits a material fact that the person makes with a knowing disregard for the truth. The statement must be made for use in determining eligibility for or the amount of benefits under title II or title XVI.

In order to implement section 1129A of the Act, SSA must collect and maintain relevant information about individuals suspected of knowingly making false or misleading statements for use in determining any initial or continuing right to or the amount of monthly insurance benefits under title II or title XVI. This information will be housed in a database and information about specific cases will be retrieved from the database by the Social Security number (SSN) and name of the individual. The information in the database will be used to investigate and take appropriate action against individuals who may have knowingly made false or misleading statements, and for management information purposes. The configuration of a database in this manner constitutes a 'system of records' under the Privacy Act.

B. Collection of Data

The information that will be maintained in the SSA Administrative Sanctions Database may be obtained from the individuals suspected of knowingly making false or misleading statements and from other SSA systems of records, such as the Claims Folders System, maintaining information individuals provide when applying for benefits under SSA programs. Other information will be generated as a result of the investigations that will be conducted. The SSA Administrative Sanctions Database will maintain the following types of records:

•Information about the initial record setup: Identification of the SSA regional office (RO) and field office (FO) that initiated the record; identifying information about the suspect such as name, Social Security number (SSN), date of birth, and address; SSA program involved—title II or title XVI, or both; type of claim event—postentitlement or initial claim; information indicating whether the case is a sanctions case; date case referred to the SSA Office of the Inspector General (OIG);

•Information about the initial level sanctions determination: The following data will be input by FOs and ROs: (through intranet screens)—information indicating whether sanctions will be imposed or deferred, whether the FO office is subject to early information system review (EIS) or FO is no longer subject to EIS review;

•Information about immediate sanctions proposed: Data such as the following will be input by the FO or RO—information indicating whether a reconsideration was filed by the individual, the date of the reconsideration and the date a reconsideration decision was sent to the individual; if benefits were withheld, the amount withheld, date of the suspension, iteration (1st, 2nd, 3rd or 3rd +) the dates sanctions began and ended, date sent for End-of-Line review, if appropriate, and results of End-of-Line Review; if the individual requests a hearing, the date of the hearing, the hearing decision, date the hearing decision sent to the individual; if a decision is made to reinstate benefits, the date 60-day notice received in FO for EIS review, the date of input to end sanctions and the date sanctions are removed. If there is Appeals Council (AC) action, the date of the AC decision, the AC decision (“A” for affirmed, “R” for reversed), and date the AC decision was sent to individual.

•Management Information: Data identifying savings to the trust fund, general revenue and the state, realized through the imposition of administrative sanctions and the amount of overpayments incurred by individuals who gave false or misleading statements for use in determining eligibility or benefit amount under title II or title XVI.

•Deferred Sanctions Proposed: Data such as the following will be input by the FO when deferred sanctions have been proposed. The data gathered is similar to but less extensive than cases where immediate sanctions are proposed. Most notably, we will gather appeals data but will not gather data on benefit withholding since that action will take place at a later date. The data gathered will indicate whether a reconsideration was filed, the date the reconsideration was filed, date the reconsideration decision was sent to the individual, the reconsideration decision; whether a hearing request was filed, the date the hearing decision was sent to the beneficiary, and the hearing decision; and date sanctions removed. If there is Appeals Council (AC) action, the date of the AC decision, the AC decision (“A” for affirmed, “R” for reversed), and date the AC decision was sent to the individual.

•Information developed by the SSA OIG: OIG case number; date referred for criminal prosecution, whether criminal prosecution was declined or accepted (“Y/N” indicator), and date criminal prosecution declined or accepted; date referred for civil prosecution, whether civil prosecution was declined or accepted (“Y/N” indicator), and date civil prosecution declined or accepted; date referred for civil monetary penalty (CMP), whether CMP declined (“Y/N” indicator), and date CMP declined/CMP imposed; date returned to the SSA FO.

C. Privacy Act Exemptions for SSA Administrative Sanctions Database Records

The information in this database constitutes material compiled for law enforcement purposes. Therefore, we propose to exempt records maintained in this proposed system of records from the requirements of the Privacy Act pursuant to 5 U.S.C. 552a(k)(2).

II. Proposed Routine Use Disclosures of Data Maintained in the Proposed SSA Administrative Sanctions Database

A. Proposed Routine Use Disclosures

1. Disclosure to the Office of the President for the Purpose of Responding to an Individual Pursuant to an Inquiry Received From That Individual or From a Third Party on His or Her Behalf

We will disclose information under this routine use only in situations in which an individual may contact the Office of the President, seeking that office's assistance in an SSA matter on his or her behalf. Information would be disclosed when the Office of the President makes an inquiry and presents evidence that the office is acting on behalf of the individual whose record is requested.

2. Disclosure to a Congressional Office in Response to an Inquiry From That Office Made at the Request of the Subject of a Record

We will disclose information under this routine use only in situations in which an individual may ask his her congressional representative to intercede in an SSA matter on his or her behalf. Information would be disclosed when the congressional representative makes an inquiry and presents evidence that he or she is acting on behalf of the individual whose record is requested.

3. Information May Be Disclosed to Student Volunteers and Other Workers, Who Technically Do Not have the Status of Federal Employees, When They Are Performing Work for SSA as Authorized by Law, and They Need Access to Personally Identifiable information in SSA Records in Order to Perform Their Assigned Agency Functions

Under certain Federal statutes, SSA is authorized to use the services of volunteers and participants in certain educational, training, employment and community service programs. Examples of such statutes and programs are: 5 U.S.C. 3111 regarding student volunteers and 42 U.S.C. 2753 regarding the College Work Study Program. We contemplate disclosing information under this routine use only when SSA uses the services of these individuals and they need access to information in this system to perform their assigned duties.

4. Disclosure to Contractors and Other Federal Agencies, as Necessary, for the Purpose of Assisting SSA in the Efficient Administration of its Programs

We will disclose information under this routine use only in situations in which SSA may enter into a contractual agreement or similar agreement with a third party to assist in accomplishing an agency function relating to this system of records.

5. Nontax Return Information Which Is Not Restricted From Disclosure by federal Law May Be Disclosed to the General Services Administration (GSA) and the National Archives and Records Administration (NARA) under 44 U.S.C. 2904 and 2906, as Amended by NARA Act of 1984, for the Use of Those Agencies in Conducting Records Management Studies

The Administrator of GSA and the Archivist of NARA are charged by 44 U.S.C. 2904 with promulgating standards, procedures and guidelines regarding records management and conducting records management studies. Section 2906 of that law, also amended by the NARA Act of 1984, provides that GSA and NARA are to have access to federal agencies' records and that agencies are to cooperate with GSA and NARA. In carrying out these responsibilities, it may be necessary for GSA and NARA to have access to this proposed system of records. In such instances, the routine use will facilitate disclosure.

B. Compatibility of Proposed Routine Uses

The Privacy Act (5 U.S.C. 552a(b)(3) and our disclosure regulations (20 CFR Part 401) permit us to disclose information under a published routine use for a purpose which is compatible with the purpose for which we collected the information. Section 401.150(c) of the regulations permits us to disclose information under a routine use where necessary to assist in carrying out SSA programs. Section 401.120 of the regulations provides that we will disclose information when a law specifically requires the disclosure. The proposed routine uses numbered 1-4 above will ensure efficient administration of the sanctions program; the disclosures that would be made under routine use numbered 5 is required by Federal law. Thus, all of the routine uses are appropriate and meet the relevant statutory and regulatory criteria.

III. Records Storage Medium and Safeguards for the Proposed SSA Administrative Sanctions Database

We will maintain information about the administrative sanctions in electronic form, computer data systems, and paper form. Only authorized SSA personnel who have a need for the information in the performance of their official duties will be permitted access to the information.

Security measures include the use of access codes to enter the computer systems that will maintain the data, and storage of the computerized records in secured areas that are accessible only to employees who require the information in performing their official duties. Any manually maintained records will be kept in locked cabinets or in otherwise secure areas. Also, all entrances and exits to SSA buildings and related facilities are patrolled by security guards. Any contractor personnel having access to data in the proposed system of records will be required to adhere to SSA rules concerning safeguards, access and use of the data. SSA and contractor personnel, if a contractor has involvement with the system of records, having access to the data on these systems will be informed of the criminal penalties of the Privacy Act for unauthorized access to or disclosure of information maintained in these systems. See 5 U.S.C. 552a(i)(1).

IV. Effect of the Proposed SSA Administrative Sanctions Database on the Rights of Individuals

We will maintain in the SSA Administrative Sanctions Database only that information that is relevant to our investigation and disposition of cases involving administrative sanctions pursuant to section 1129A of the Act. We will afford individuals suspected of knowingly making false statements all due process and other rights to which they are entitled. Thus, we do not anticipate that the proposed system of records will have an unwarranted adverse effect on the rights of individuals.

Dated: August 28, 3000.
Kenneth S. Apfel,
Commissioner of Social Security.

09-60-0280

System Name:

SSA Administrative Sanctions Database.

Security Classification:

None.

System Location:

Social Security Administration, New York Regional Office, Administrative Sanctions Coordinator, Room 4032, Federal Building, 26 Federal Plaza, New York, NY 10278.

Categories of Individuals covered by the System:

All individuals for title II and title XVI benefits who may have knowingly provided false or misleading statements for use in determining eligibility for or the amount of benefits under title II and title XVI.

Categories of records in the System:

The following types of records are maintained in this system of records:

• Information about the initial record setup: Identification of the SSA regional office (RO) and field office (FO) that initiated the record; identifying information about the suspect such as name, Social Security number (SSN), date of birth, and address; SSA program involved—title II or title XVI, or both; type of claim event—postentitlement or initial claim; information indicating whether the case is a sanctions case; date case referred to the SSA Office of the Inspector General (OIG);

• Information about the initial level sanctions determination: The following data will be input by FOs and ROs: (through intranet screens)—information indicating whether sanctions will be imposed or deferred, whether the FO office is subject to early information system review (EIS) or FO is no longer subject to EIS review;

• Information about immediate sanctions proposed: Data such as the following will be input by the FO or RO—information indicating whether a reconsideration was filed by the individual, the date of the reconsideration and the date a reconsideration decision was sent to the individual; if benefits were withheld, the amount withheld, date of the suspension, iteration (1st, 2nd, 3rd or 3rd +) the dates sanctions began and ended, date sent for End-of-Line review, if appropriate, and results of End-of-Line Review; if the individual requests a hearing, the date of the hearing, the hearing decision, date the hearing decision sent to the individual; if a decision is made to reinstate benefits, the date 60 day notice received in FO for EIS review, the date of input to end sanctions and the date sanctions are removed. If there is Appeals Council (AC) action, the date of the AC decision, the AC decision (“A” for affirmed, “R” for reversed), and date the AC decision was sent to individual.

• Management Information: Data identifying savings to the trust fund, general revenue and the state, realized through the imposition of administrative sanctions and the amount of overpayments incurred by individuals who gave false or misleading statements for use in determining eligibility or benefit amount under title II or title XVI.

• Deferred Sanctions Proposed: Data such as the following will be input by the FO when deferred sanctions have been proposed. The data gathered is similar to but less extensive than cases where immediate sanctions are proposed. Most notably, we will gather appeals data but will not gather data on benefit withholding since that action will take place at a later date. The data gathered will indicate whether a reconsideration was filed, the date the reconsideration was filed, date the reconsideration decision was sent to the individual, the reconsideration decision; whether a hearing request was filed, the date the hearing decision was sent to the beneficiary, and the hearing decision; and date sanctions removed. If there is Appeals Council (AC) action, the date of the AC decision, the AC decision (“A” for affirmed, “R” for reversed), and the date the AC decision was sent to the individual.

• Information developed by the SSA OIG: OIG case number; date referred for administrative prosecution, whether such prosecution was declined or accepted (“Y/N” indicator), and date such prosecution declined or accepted; date referred for civil prosecution, whether civil prosecution was declined or accepted (“Y/N” indicator), and date civil prosecution declined or accepted; date referred for civil monetary penalty (CMP), whether CMP declined (“Y/N” indicator), and date CMP declined/CMP imposed; date returned to the SSA FO.

Authority for maintenance of the system:

Section 1129A of the Social Security Act (42 U.S.C. 1320a-8).

Purpose(s):

Information in this system of records will be used by SSA to investigate and take appropriate action against individuals suspected of knowingly providing false or misleading information for use in determining their right to benefits under Social Security title II Old-Age, Survivors or Disability Insurance or title XVI Supplemental Security Income benefits. Instances where individuals are suspected of making false or misleading statements will be referred to the SSA Office of the Inspector General (OIG) for investigation and disposition. Information in the system of records will also be used to produce management information data and reports providing information such as:

• Number of potential sanctions cases.

• Average time from referral to return by OIG.

• Number of cases found to be not sanctionable.

• Number of cases prosecuted criminally.

• Number of cases prosecuted civilly.

• Number of cases where CMP was imposed.

• Number of cases sanctioned (available by Region and FO code).

• Number of reconsiderations filed.

• Number of reconsiderations affirmations.

• Number of reconsiderations reversals.

• Number sent for consistency review.

• Number of hearings filed.

• Number of hearing affirmations.

• Number of hearing reversals.

• Amount of benefits withheld—title II and title XVI.

• Amount of overpayments incurred—title II and title XVI.

Routine uses of records maintained in the system, including categories of users and the purposes of such uses:

Disclosures may be made for routine uses as indicated below:

1. Disclosure to the Office of the President for the purpose of responding to an individual pursuant to an inquiry received from that individual or from a third party on his or her behalf.

2. Disclosure to a congressional office in response to an inquiry from that office made at the request of the subject of a record.

3. Information may be disclosed to student volunteers and other workers, who technically do not have the status of Federal employees, when they are performing work for SSA as authorized by law, and they need access to personally identifiable information in SSA records in order to perform their assigned Agency functions.

4. Disclosure to contractors and other Federal agencies, as necessary, for the purpose of assisting SSA in the efficient administration of its programs.

5. Nontax return information which is not restricted from disclosure by federal law may be disclosed to the General Services Administration (GSA) and the National Archives and Records Administration (NARA) under 44 U.S.C. 2904 and 2906, as amended by NARA Act of 1984, for the use of those agencies in conducting records management studies.

Policies and practices for storing, retrieving, accessing, retaining and disposing of records in the system:

Storage:

Data are stored in electronic and paper form.

Retrievability:

Records in this system are by SSN and name of the individual.

Safeguards:

This system of records is a database that is accessible via an SSA intranet website. Security measures include the use of access codes to enter the database, and storage of the electronic records in secured areas, which are accessible only to employees who require the information in performing their official duties. The paper records that result from the electronic site are kept in locked cabinets or in otherwise secure areas. All SSA employees, including contractor personnel, having access to data in the system of records are required to adhere to SSA rules concerning safeguards, access, and use of the data. They also are informed of the criminal penalties of the Privacy Act for unauthorized access to or disclosure of information maintained in this system of records.

Retention and disposal:

Claims development and tracking and management information maintained in this system are retained indefinitely or when it is determined that they are no longer needed. Means of disposal is appropriate to storage medium (e.g., deletion of individual records from the electronic site when appropriate or shedding of paper records that are produced from the system).

System manager and address:

Regional Commissioner, Social Security Administration, New York Regional Office, Room 4032, Federal Building, 26 Federal Plaza, New York, N.Y. 10278

Notification procedure:

Per 5 U.S.C. 552a(k)(2) the Agency is exempt from publishing procedures whereby an individual can be notified at his/her request if the system of records contains a record pertaining to him/her. These procedures are in accordance with SSA Regulations (20 CFR 401.85).

Record access procedures:

Per 5 U.S.C. 552a(k)(2) the Agency is exempt from publishing procedures whereby an individual can be notified at his/her request how to gain access to any record pertaining to him/her contained in this system of records. These procedures are in accordance with SSA Regulations (20 CFR 401.85).

Contesting record procedures:

Per 5 U.S.C. 552a(k)(2), records in this system are exempt from access by the individual named in this system of records. These procedures are in accordance with SSA Regulations (20 CFR 401.85).

Record source categories:

Per 5 U.S.C. 552a(k)(2), the Agency is exempt from publishing the record sources. These procedures are in accordance with SSA Regulations (20 CFR 401.85).

Systems exempted from certain provisions of the Privacy Act:

Exemption of this system to the access provisions is claimed under 5 U.S.C. 552a(k)(2) inasmuch as these records are investigatory materials compiled for law enforcement purposes in anticipation of a administrative proceeding. These procedures are in accordance with SSA Regulations (20 CFR 401.85).

[FR Doc. 00-23015 Filed 9-7-00; 8:45 am]

BILLING CODE 4190-11-U